DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 24, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Natural Resource Conservation Service

Title: Urban Agriculture and Innovation Production Grant Program.

OMB Control Number: 0578-0032.

Summary of Collection: The Agriculture Improvement Act of 2018 (2018 Farm Bill, Pub. L. 115-334) authorized the Farm Production and Conservation (FPAC) mission area and the Natural Resources Conservation Service (NRCS) to award competitive grants to local units of government, school districts, and tribal communities to support the development of urban agriculture and innovative production with the goal of improving access to local foods in areas where access to fresh, healthy food is limited or unavailable.

Need and Use of the Information: The information is utilized by NRCS to determine whether participants meet the eligibility requirements to be a recipient of grant funds. Lack of adequate information to make the determination could result in the improper administration and appropriation of Federal grant funds.

Description of Respondents: Farms.

Number of Respondents: 897.

Frequency of Responses: Reporting: Semi-annually.

Total Burden Hours: 6,773.

Natural Resource Conservation Service

Title: Composting and Food Waste Reduction Cooperative Agreements.

OMB Control Number: 0578-0033.

Summary of Collection: The Agriculture Improvement Act of 2018 (2018 Farm Bill; Pub. L. 115-334) authorized the Farm Production and Conservation (FPAC) mission area and the Natural Resources Conservation Service (NRCS) to carry out pilot projects under which local and municipal governments enter into cooperative agreements to develop and test strategies for planning and implementing municipal composting plans and food waste reduction plans.

Need and Use of the Information: NRCS is using the information to determine whether participants meet the eligibility requirements to be a recipient of grant funds. Lack of adequate information to make the determination could result in the improper administration and appropriation of Federal grant funds.

Description of Respondents: Farms.

Number of Respondents: 724.

Frequency of Responses: Reporting: Semi-annually.

Total Burden Hours: 5,353.

Ruth Brown,
Departmental Information Collection Clearance Officer.

[FR Doc. 2022-20663 Filed 9-22-22; 8:45 am]

BILLING CODE 3410-16-P